DEPARTMENT OF VETERANS AFFAIRS

[OMB Control No. 2900-New (21-526c)]

Pre-Discharge Compensation Claim; Correction

AGENCY: Veterans Benefits Administration, Department of Veterans Affairs.

ACTION: Notice; correction.

SUMMARY: The Veterans Benefits Administration (VBA), Department of Veterans Affairs (VA), published two collection of information notices in the Federal Register announcing an opportunity for public comment on information collection requirements. Each notice solicited comments on the information required for service members to participate in the discharge claims program. Both notices contained a typographical error in the VA form number referenced and the OMB control number. This document corrects those errors in each notice.

FOR FURTHER INFORMATION CONTACT: Denise McLamb, Enterprise Records Service (005R1B), Department of Veterans Affairs, 810 Vermont Avenue, NW., Washington, DC 20420, at 202-461-7485.

Correction

In FR Doc. E9-12301, published on May 26, 2009, at 74 FR 24902, make the following corrections. On page 24902, in the third column, at the end of “Title: Pre-Discharge Compensation Claim, VA Form 21-0842” remove “21-0842” and add, in its place, “21-526c”, and at the end of “OMB Control Number: 2900—New (21-0842)”, remove “(21-0842)” and add, in its place “(21-526c)”.

In FR Doc E9-18627, published on August 4, 2009, at 74 FR 38684, make the following corrections. On page 38684, in the second column, at the end of “Title: Pre-Discharge Compensation Claim, VA Form 21-0842” remove “21-0842” and add, in it place, “21-526c”, and at the end of “OMB Control Number: 2900—New (21-0842)” remove “(21-0842)” and add, in its place “(21-526c)”.

Approved: September 8, 2009.
William F. Russo,
Director of Regulations Management.

[FR Doc. E9-22044 Filed 9-11-09; 8:45 am]

BILLING CODE P